DEPARTMENT OF HEALTH AND HUMAN SERVICES

Centers for Disease Control and Prevention

[60Day-11-11BW]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Cops and Cars: Reducing Law Enforcement Officer Deaths in Motor Vehicle Crashes—NEW—National Institute for Occupational Safety and Health (NIOSH), Centers for Disease Control and Prevention (CDC).

Background and Brief Description

Occupational hazards facing law enforcement officers (LEOs) include psychological, biological, physical, and chemical stressors. While homicides, suicides, and stress-related cardiovascular disease have been well documented in the literature, much less is known about work related motor vehicle incidents in this occupation. Motor vehicle incidents and crashes are the leading cause of occupational death among LEOs. This is not surprising given that LEOs spend a large amount of time conducting vehicle patrols, can be involved in dangerous high-speed pursuits, and often perform work alongside interstates and roadways near speeding motor vehicles. While seatbelt use significantly reduces the chance of dying in a motor-vehicle crash, there is some anecdotal evidence that LEOs do not wear seatbelts and often for good reasons. For example, one of the leading reasons why officers report not wearing seatbelts was the tendency of the belt to get caught on their gun holster and therefore inhibit their safety while in the field. A better understanding of how officers view seatbelt usage, ways to decrease barriers to usage in the field, and possible gateways to this behavior change is needed before developing evidence-based interventions.

The Occupational Safety and Health Act, Public Law 91-596 (section 20[a] [1]) authorizes the National Institute for Occupational Safety and Health (NIOSH) to conduct research to advance the health and safety of workers. NIOSH is proposing to conduct a population-based, cross-sectional survey among LEOS in the State of Iowa to measure motor-vehicle safety practices, perceptions of these practices, and prior occupational motor-vehicle crashes.

Enrollment for the study will be performed at the agency level. A random sample of Iowa law enforcement agencies, stratified on size of department (small, medium, and large) and type of department (Sheriff's Departments and City/Police Departments) will be drawn using a publicly available database. Recruitment packets will be sent to the leadership of these agencies inviting them to participate in the study. After agency leadership have agreed to participate in the study, survey packets will be mailed to a contact person in the agency. These packets will then be distributed to all sworn officers. Study packets will consist of an introduction letter and paper-and-pencil survey. The questionnaire provides information on the following categories: Socio-demographics, occupation, driving behaviors, attitudes & knowledge of policies, and details of prior motor-vehicle crashes.

The sample size is estimated to be 162 agencies, with approximately 2,467 police and sheriff patrol officers. This estimate is derived using a publically available database of all U.S. law enforcement agencies. Pilot test data demonstrated that respondents should take approximately 20 minutes to complete the survey, resulting in an annualized burden estimate of 822 hours. Participation in the study is completely voluntary.

Distribution of the surveys will also utilize the time of first-line supervisors of the participating law enforcement agencies. The surveys will be mailed to the leadership of each participating law enforcement agency. They will be asked to distribute the surveys to all sworn officers in their agencies. Depending on the level of involvement of each agency, additional work activities delineated to the leadership could include: Collection of the surveys, verbal and/or written reminders to the officers, re-distribution of surveys, and e-mail/phone communication with NIOSH. One-hundred and sixty-two agencies have been invited to participate in the study. We estimate that on average, leadership at each agency will contribute a total of one burden hour for a total of 162 burden hours. There is no cost to respondents except their time.

Estimated Annualized Burden Hours
Type of respondent | Number of respondents | Number of responses per respondent | Average burden per response (in hours) | Total burden hours
Police & sheriff's patrol officers | 2,467 | 1 | 20/60 | 822
First-Line Supervisors/Managers of Police & Detectives | 162 | 1 | 1 | 162
Total |  |  |  | 984

Dated: February 1, 2011.
Carol E. Walker,
Acting Reports Clearance Officer, Centers for Disease Control and Prevention.

[FR Doc. 2011-2674 Filed 2-7-11; 8:45 am]

BILLING CODE 4163-18-P